NUCLEAR REGULATORY COMMISSION

[NRC-2008-0339]

Notice of Availability of Draft Environmental Impact Statement for the Nichols Ranch In-Situ Recovery (ISR) Project in Campbell and Johnson Counties, WY; Supplement to the Generic Environmental Impact Statement for In-Situ Leach Uranium Milling Facilities

AGENCY: Nuclear Regulatory Commission.

ACTION: Notice of availability.

SUMMARY: Notice is hereby given that the U.S. Nuclear Regulatory Commission (NRC) is issuing for public comment a Draft Supplemental Environmental Impact Statement for the Nichols Ranch In-Situ Recovery (ISR) Project. By letter dated November 30, 2007, Uranerz Energy Corporation (Uranerz), submitted an application to the NRC for a new source material license for the Nichols Ranch ISR Project, which Uranerz proposes to be located in the Powder River Basin in Campbell and Johnson Counties, Wyoming. Uranerz is proposing to recover uranium from the Nichols Ranch ISR Project site using the in-situ leach (also know as the in-situ recovery (ISR)) process.

The Atomic Energy Act of 1954, as amended by the Uranium Mill Tailings Radiation Control Act of 1978, authorizes the NRC to issue licenses for the possession and use of source material and byproduct material. These statutes require that NRC license facilities, including ISR operations, in accordance with NRC regulatory requirements to protect public health and safety from radiological hazards. Under the NRC's environmental protection regulations in the Code of Federal Regulations, Title 10, Part 51 (10 CFR part 51), that implement the National Environmental Policy Act of 1969 (NEPA), preparation of an environmental impact statement (EIS) or supplement to an EIS (SEIS) is required for issuance of a license to possess and use source material for uranium milling (see 10 CFR 51.20(b)(8)).

In June 2009, the NRC staff issued NUREG-1910, “Generic Environmental Impact Statement for In-Situ Leach Uranium Milling Facilities” (herein referred to as the GEIS). In the GEIS, NRC assessed the potential environmental impacts from the construction, operation, aquifer restoration, and decommissioning of an ISR facility located in four specific geographic regions of the western United States. The proposed Nichols Ranch ISR Project is located within the Wyoming East Uranium Milling Region identified in the GEIS. The Nichols Ranch ISR Project Draft SEIS both supplements and incorporates by reference relevant portions of the GEIS and uses site specific information from the applicant's license application and other independent sources to fulfill the requirements in 10 CFR 51.20(b)(8).

DATES: The public comment period on the Draft SEIS begins with publication of this notice and continues until February 01, 2010. Written comments should be submitted as described in the ADDRESSES section of this notice. The NRC will consider comments received or postmarked after that date to the extent practical.

ADDRESSES: You may submit comments by any one of the following methods. Please include Docket ID NRC-2008-0339 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2008-0339. Comments may be submitted electronically through this Web site. Address questions about NRC dockets to Carol Gallagher at 301-492-3668, or e-mail at Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446. You may also send comments electronically to NicholsRanchISRSEIS@nrc.gov.

Publicly available documents related to this notice can be accessed using the following methods:

NRC's Public Document Room (PDR): The public may examine and have copied, for a fee, publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to Pdr.Resource@nrc.gov. The “Environmental Impact Statement for the Nichols Ranch ISR Project in Campbell and Johnson Counties, Wyoming—Supplement to the Generic Environmental Impact Statement for In-Situ Leach Uranium Milling Facilities” is available electronically under ADAMS Accession Number ML093340536.

The Draft SEIS for the Nichols Ranch ISR Project also may be accessed on the internet at http://www.nrc.gov/reading-rm/doc-collections/nuregs/staff/ by selecting “NUREG-1910.” The Draft SEIS will be Supplement 2 to NUREG-1910. Additionally, a copy of the Draft SEIS will be available at the following public libraries:

Campbell County Public Library, 2101 South 4J Road, Gillette, Wyoming 82718, 307-687-0009.

Johnson County Library, 171 North Adams Avenue, Buffalo, Wyoming 82834, 307-684-5546.

Federal Rulemaking Web site: Public comments and supporting materials related to this notice can be found at http://www.regulations.gov by searching on Docket ID: NRC-2008-0339.

FOR FURTHER INFORMATION CONTACT: For information on environmental review process related to the Draft SEIS for the Nichols Ranch ISR Project, please contact Irene Yu, Project Manager, Environmental Review Branch, Division of Waste Management and Environmental Protection (DWMEP), Mail Stop T-8F5, the U.S. Nuclear Regulatory Commission, Washington, DC, 20555-0001, by phone at 1 (800) 368-5642, extension 1951. For general or technical information associated with the safety and licensing of uranium milling facilities, please contact Stephen Cohen, Team Lead, Uranium Recovery Licensing Branch, DWMEP, Mail Stop T-8F5, the U.S. Nuclear Regulatory Commission, Washington, DC 20555-0001, by phone at 1 (800) 368-5642, extension 7182.

SUPPLEMENTARY INFORMATION: The Atomic Energy Act, as amended by the Uranium Mill Tailings Radiation Control Act of 1978, authorizes NRC to issue licenses for the possession and use of source material and byproduct material. These statutes require that NRC license facilities, including ISR operations, in accordance with NRC regulatory requirements to protect public health and safety from radiological hazards. In-situ uranium recovery facilities must meet NRC regulatory requirements in order to obtain this license to operate. Under the NRC's environmental protection regulations in 10 CFR part 51.21(b)(8), which implements NEPA, issuance of a license to possess and use source material for uranium milling requires an EIS or a supplement to an EIS.

To help fulfill this requirement, the NRC staff and its contractor, the Center for Nuclear Waste Regulatory Analyses, in cooperation with the Wyoming Department of Environmental Quality (Land Quality Division), issued the GEIS in June 2009. The GEIS was prepared to assess the potential environmental impacts associated with the construction, operation, aquifer restoration, and decommissioning of an ISR facility in four specific geographic areas of the western United States. The proposed Nichols Ranch ISR Project is located in one such region, the Wyoming East Uranium Milling Region. The GEIS evaluated the range of potential impacts in the four geographic regions and evaluated whether the potential impact would be essentially the same for all ISR facilities or whether site-specific information and analysis would be required to determine the potential impacts. As such, the GEIS provides a starting point for the NRC's NEPA analyses for site-specific license applications for new ISR facilities, as well as for applications to renew or amend existing ISR licenses.

By letter dated November 30, 2007, Uranerz submitted an application to the NRC for a new source material license for the Nichols Ranch ISR Project, which Uranerz proposes to be located in Campbell and Johnson Counties, Wyoming, approximately 46 miles south-southwest of Gillette, Wyoming and approximately 61 miles north-northeast of Casper, Wyoming. Planned facilities associated with the proposed Nichols Ranch ISR Project include a central processing plant, satellite facility, accompanying well fields with injection, production, and monitoring wells, header houses, pipelines, and access roads. The total land surface ownership of the proposed Nichols Ranch ISR Project is approximately 3,371 acres, of which 3,091 acres are privately owned and 280 acres are U.S. Government-owned and administered by the U.S. Department of Interior, Bureau of Land Management (BLM). The proposed Nichols Ranch ISR Project would be divided into two noncontiguous units, the Nichols Ranch Unit and the Hank Unit. Because a portion of the proposed Nichols Ranch ISR Project site is administered by the BLM, the NRC coordinated its environmental review with the BLM to promote efficiencies in each agency's environmental review. This coordination was undertaken in tandem with developing a memorandum of understanding (MOU) with the BLM that establishes a cooperating agency status between the agencies. The MOU was finalized on November 30, 2009, and NRC plans to use it in the review of applications that are in their early stages in order to effectively integrate BLM as a cooperating agency into the review of future applications.

ISR facilities recover uranium from low grade ores that may not be economically recoverable by other methods. In the ISR process, a leaching agent (called a lixiviant), such as oxygen and sodium bicarbonate, is added to native groundwater for injection through wells into the subsurface ore body to dissolve the uranium. Before ISR operations can begin, the portion of the aquifer designated for uranium recovery must be exempted by the U.S. Environmental Protection Agency (EPA) from being an underground source of drinking water in accordance with the Safe Drinking Water Act (as implemented by EPA at 40 CFR 146.4). The injected solution, now containing the dissolved uranium, is pumped back (i.e. recovered) to the surface and sent to a processing plant, where ion exchange is used to separate the uranium from the solution. The ISR process also frees other metals and minerals from the host aquifer. As a result, operators of ISR facilities are required to restore the groundwater affected by operations and to decommission the facility when operations have ceased. In the processing plant, the recovered uranium is concentrated into the product known as “yellowcake,” which is then shipped to a uranium conversion facility for further processing in the overall uranium fuel cycle.

In this Draft SEIS, the NRC staff has assessed the potential environmental impacts from the construction, operation, aquifer restoration, and decommissioning of the proposed Nichols Ranch ISR Project. In doing so, the NRC staff evaluated site-specific data and information from the Nichols Ranch ISR Project to determine if Uranerz's proposed activities and the site characteristics were consistent with those evaluated in the GEIS. NRC then determined which relevant sections of the Draft GEIS and impact conclusions in the Draft GEIS could be incorporated by reference. The NRC staff also determined if additional data or analysis was needed to determine the environmental impacts for a specific environmental resource area. The NRC staff documented its assessments and conclusions in the Draft SEIS.

In addition to the action proposed by Uranerz, the NRC staff addressed two alternatives in the Draft SEIS: A No-Action alternative and a Modified Action alternative. Under the No-Action alternative, NRC would deny Uranerz's request to construct and operate an ISR facility at the Nichols Ranch ISR Project. The No-Action alternative serves as a baseline for comparison of the potential environmental impacts. Under the Modified Action alternative, the NRC would only issue Uranerz a license for ISR uranium milling and processing at the Nichols Ranch Unit and not the Hank Unit. By doing so, this alternative would only consist of extracting uranium from well fields developed in the Nichols Ranch Unit and processing at a central processing plant located at the Nichols Ranch Unit.

The NRC staff also considered other alternatives but eliminated them from detailed analysis. Conventional mining/milling and conventional mining/heap leach processing are two potential methods of uranium recovery at the Nichols Ranch ISR Project. However, given the recognized more substantial environmental impacts of conventional mining (whether by open pit or underground techniques) and conventional milling or heap leach processing, these alternatives were not further considered. The NRC staff also evaluated alternative lixiviants (acid- and ammonia-based), and alternative waste disposal methods. For reasons discussed in the Draft SEIS, these alternatives also were eliminated from further consideration.

This Draft SEIS is being issued for public comment. The public comment period on the Draft SEIS begins with publication of this notice and continues until February 1, 2010. Written comments should be submitted as described in the ADDRESSES section of this notice. The NRC will consider comments received or postmarked after that date to the extent practical.

Dated at Rockville, Maryland, this 4th day of December 2009.
For the U.S. Nuclear Regulatory Commission.
Patrice M. Bubar,
Deputy Director, Environmental Protection and Performance Assessment Directorate, Division of Waste Management and Environmental Protection, Office of Federal and State Materials and Environmental Management Programs.

[FR Doc. E9-29550 Filed 12-10-09; 8:45 am]

BILLING CODE 7590-01-P